NATIONAL AERONAUTICS AND SPACE ADMINISTRATION

[Notice (15-038)]

Government-Owned Inventions, Available for Licensing

AGENCY: National Aeronautics and Space Administration.

ACTION: Notice of Availability of inventions for licensing.

SUMMARY: Patent applications on the inventions listed below assigned to the National Aeronautics and Space Administration, have been filed in the United States Patent and Trademark Office, and are available for licensing.

DATES: May 18, 2015.

FOR FURTHER INFORMATION CONTACT: James J. McGroary, Patent Counsel, Marshall Space Flight Center, Mail Code LS01, Huntsville, AL 35812; telephone (256) 544-0013; fax (256) 544-0258.

NASA Case No.: MFS-33169-1: Mechanical Stress Measurement During Thin-Film Fabrication.

Sumara M. Thompson-King,
General Counsel.

[FR Doc. 2015-11970 Filed 5-15-15; 8:45 am]

BILLING CODE 7510-13-P